DEPARTMENT OF THE INTERIOR

Fish and Wildlife Service

Draft Post-Delisting Monitoring Plan for the Tinian Monarch (Monarcha takatsukasae)

AGENCY: Fish and Wildlife Service, Interior.

ACTION: Notice of document availability for review and comment.

SUMMARY: The U.S. Fish and Wildlife Service (we) announces the availability of the Draft Post-delisting Monitoring Plan for the Tinian Monarch (Monarcha takatsukasae) (Monitoring Plan). We propose to monitor the status of the Tinian monarch over a 5-year period from 2005 to 2010 through regular field surveys of the distribution and abundance of the Tinian monarch, regular field surveys for brown treesnakes (Boiga irregularis) on Tinian, and tracking of land use and development on Tinian. We solicit review and comment on this Monitoring Plan from local, State and Federal agencies, and the public.

DATES: We will accept and consider all public comments received on or before January 12, 2005.

ADDRESSES: Copies of the Monitoring Plan are available by request from Dr. Eric VanderWerf, Hawaiian Bird Recovery Coordinator, U.S. Fish and Wildlife Service, Pacific Islands Fish and Wildlife Office, 300 Ala Moana Blvd., Box 50088, Honolulu, Hawaii 96850 (telephone: (808) 792-9400; fax: (808) 792-9580). This Monitoring Plan is also available on the World Wide Web at http://pacificislands.fws.gov.

FOR FURTHER INFORMATION CONTACT: Dr. Eric VanderWerf, Hawaiian Bird Recovery Coordinator, at the above Honolulu address or at (808) 792-9400.

SUPPLEMENTARY INFORMATION:

Background

The Tinian monarch, or Chuchurican Tinian in the Chamorro language, is a forest bird endemic to the island of Tinian in the Mariana Archipelago in the western Pacific Ocean. The Tinian monarch inhabits a variety of forest types on Tinian, including native limestone forest, secondary vegetation consisting primarily of non-native plants, and nearly pure stands of introduced tangantangan (Leucaena leucocephala).

The Tinian monarch was listed as endangered on June 2, 1970 (35 FR 8491), because its population was reported to be critically low due to the destruction of native forests by pre-World War II (WW II) agricultural practices, and by military activities during WW II. We conducted forest bird surveys on Tinian in 1982, which resulted in a population estimate of 39,338 Tinian monarchs. On November 1, 1985, we published a proposed rule to delist the Tinian monarch (50 FR 45632). Based on comments received, we instead downlisted the Tinian monarch, and a final rule reclassifying it from endangered to threatened was published on April 6, 1987 (52 FR 10890). There is no recovery plan specifying delisting criteria for the Tinian monarch. A study of Tinian monarch breeding biology in 1994 and 1995 resulted in a population estimate of approximately 52,900 birds. In 1996, a replication of the 1982 surveys yielded a population estimate of 55,720 birds. The 1996 survey also found a significant increase in forest density since 1982, indicating an improvement in Tinian monarch habitat quality.

On February 22, 1999, we published a proposed rule to remove the Tinian monarch from the Federal List of Endangered and Threatened Wildlife (64 FR 8533). That proposal was based primarily on information from population surveys and demographic research, which indicated the Tinian monarch has increased in number or is stable, and that the primary listing factor, loss of habitat, has been ameliorated. On September 21, 2004, we published a final rule removing the Tinian monarch from the Federal List of Endangered and Threatened Wildlife (69 FR 65367).

Section 4(g)(1) of the Endangered Species Act (Act) (16 U.S.C. 1531 et seq.), requires that we implement a system, in cooperation with the States, to monitor for no fewer than 5 years the status of all species that have recovered and been removed from the Federal List of Endangered and Threatened Wildlife and Plants. The purpose of post-delisting monitoring is to verify that a species delisted due to recovery remains secure from risk of extinction after it has been removed from the protections of the Act.

On December 7, 2002, we mailed letters to 18 scientific experts on the Tinian monarch and the brown treesnake, asking for scientific review of the Monitoring Plan. We received nine responses to our request. We carefully considered the comments of the reviewers and used them to improve the Monitoring Plan.

We propose to monitor the status of the Tinian monarch over a 5-year period from 2005 to 2010 in cooperation with the Commonwealth of the Northern Mariana Islands Division of Fish and Wildlife, the U.S. Geological Survey, the U.S. Department of Agriculture, and the U.S. Navy through regular field surveys of the distribution and abundance of the Tinian monarch, regular field surveys for brown treesnakes on Tinian, and by tracking changes in land use and development on Tinian. If data from this monitoring effort, or from some other source, indicate that the Tinian monarch is experiencing significant declines in abundance or distribution or that it requires protective status under the Act for some other reason, we can initiate listing procedures including, if appropriate, emergency listing.

Public Comments Solicited

We will accept written comments and information during this comment period. If you wish to comment, you may submit your comments and materials concerning this monitoring plan by any of these methods:

1. You may submit written comments and information my mail, facsimile, or in person to the Hawaiian Bird Recovery Coordinator at the above Honolulu address (see ADDRESSES).

2. You may send comments by electronic mail (e-mail) to: monarch_pdmp@r1.fws.gov. If you submit comments by e-mail, please submit them as an ASCII file and avoid the use of special characters and any form of encryption. Please also include your name and return address in your e-mail message.

Comments and materials received, as well as supporting documentation used in preparation of the Monitoring Plan, will be available for inspection, by appointment, during normal business hours at the above Honolulu address (see ADDRESSES).

Author

The primary author of this document is Dr. Eric A. VanderWerf, Hawaiian Bird Recovery Coordinator (see ADDRESSES).

Authority

The authority for this action is the Endangered Species Act of 1973 (16 U.S.C. 1531 et seq.).

Dated: November 15, 2004.
David Wesley,
Acting Regional Director, Region 1, Fish and Wildlife Service.

[FR Doc. 04-27022 Filed 12-10-04; 8:45 am]

BILLING CODE 4310-55-P